DEPARTMENT OF LABOR

Employment and Training Administration

[TA-W-38,736]

Perfect Fit Industries, Tell City Plant, Tell City, Indiana; Notice of Termination of Investigation

Pursuant to section 221 of the Trade Act of 1974, an investigation was initiated on March 5, 2001, in response to a petition filed on behalf of workers at Perfect Fit Industries, Tell City Plant, Tell City, Indiana.

The petitioner has requested that the petition be withdrawn. Consequently, further investigation in this case would serve no purpose, and the investigation has been terminated.

Signed in Washington, DC this 9th day of April, 2001.
Linda G. Poole,
Certifying Officer, Division of Trade Adjustment Assistance.

[FR Doc. 01-9717 Filed 4-18-01; 8:45 am]

BILLING CODE 4510-30-M